DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Ricky Ray Hemophilia Relief Fund Program (OMB No. 0915-0244)—Extension

The Ricky Ray Hemophilia Relief Fund Act of 1998 (Pub. L. 105-369) established a trust fund to provide for compassionate payments with regard to certain individuals with blood-clotting disorders, such as hemophilia, who contracted HIV due to contaminated antihemophilic factor within specified time periods. The statute mandated payments to any individual with HIV who has any blood-clotting disorder and was treated with antihemophilic factor any time between July 1, 1982, and December 31, 1987. The Act also provides for payments to certain persons who contracted HIV from the foregoing individuals. Specified survivors of these categories of individuals may also receive payments. In order to receive a payment, either the individual who is eligible for payment, or his or her personal representative, must file a petition for payment with sufficient documentation to prove that he or she meets the requirements of the statute. This data collection is required to provide the necessary medical and legal documentation that establishes eligibility for payment.

The estimated annual response burden is as follows:

Form | Number of respondents | Responses per respondent | Hours per response | Total hour burden
Petition form and Supporting Documentation | 5,000 | 1 | 3 | 15,000
Physician Documentation | 1,000 | 1 | 1 | 1,000
Total | 6,000 |  |  | 16,000

Send comments to Susan G. Queen, Ph.D., HRSA Reports Clearance Officer, Room 14-33, Parklawn Building, 5600 Fishers Lane, Rockville, MD 20857. Written comments should be received within 60 days of this notice.

Dated: July 25, 2000.
Jane Harrison,
Director, Division of Policy Review and Coordination.

[FR Doc. 00-19303 Filed 8-3-00; 8:45 am]

BILLING CODE 4160-15-P